DEPARTMENT OF ENERGY
Federal Energy Regulatory Commission
[Docket No. RP03-628-001]
Iroquois Gas Transmission System, L.P.; Notice of Proposed Changes in FERC Gas Tariff
January 22, 2004.
Take notice that on January 15, 2004, Iroquois Gas Transmission System, L.P. (Iroquois) tendered for filing as part of its FERC Gas Tariff, First Revised Volume No. 1 Sub. Twelfth Revised Sheet No. 4A. The proposed effective date of this revised tariff sheet is November 1, 2003.
Iroquois states that due to an inadvertent omission the credit for the Zone 2 (MFV) rate under the TCRA section entitled “ER/ED Commodity” is now being reinstated on Sub. Twelfth Revised Sheet No. 4A. Such credit will continue to be consistent with the other credits associated with the ER/ED service under the TCRA section.
Iroquois states that copies of its filing were served on all jurisdictional customers and interested State commissions.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-153 Filed 1-29-04; 8:45 am]
BILLING CODE 6717-01-P